DEPARTMENT OF ENERGY

Biomass Research and Development Technical Advisory Committee

AGENCY: Energy Efficiency and Renewable Energy, Department of Energy.

ACTION: Notice of open meeting.

SUMMARY: This notice announces an open meeting of the Biomass Research and Development Technical Advisory Committee. The Federal Advisory Committee Act requires that public notice of these meetings be announced in the Federal Register.

DATES: March 1, 2012; 9 a.m.-2 p.m.

March 2, 2012; 8:30 a.m.-1 p.m.

ADDRESSES: Omni Shoreham Hotel, 2500 Calvert Street NW. (at Connecticut Avenue), Washington, DC 20008.

FOR FURTHER INFORMATION CONTACT: Elliott Levine, Designated Federal Officer, Office of Energy Efficiency and Renewable Energy, U.S. Department of Energy, 1000 Independence Avenue SW., Washington, DC 20585; (202) 586-1476; Email: Elliott.Levine@ee.doe.gov or Roy Tiley at (410) 997-7778 ext. 220; Email: rtiley@bcs-hq.com.

SUPPLEMENTARY INFORMATION: Purpose of Meeting: To provide advice and recommendations that promotes research and development leading to the production of biobased fuels and biobased products.

Tentative Agenda

• Update on USDA Biomass R&D Activities

• Update on DOE Biomass R&D Activities

• Presentation on the USDA Feedstocks Readiness Tool

• Panel discussion on Renewable Fuel Standards

• Presentation on the National Biofuels Action Plan

Public Participation: The meeting is open to the public. Written statements may be filed with the Board either before or after the meeting. Members of the public who wish to attend the meeting and/or to make oral statements regarding any of the items on the agenda should contact Elliott Levine or Roy Tiley at the email or telephone number listed above. Request to make oral comments must be received five days prior to the meeting; reasonable provision will be made to include the requested topic(s) on the agenda. Members of the public will be heard in the order in which they sign up at the beginning of the meeting. The Co-chairs will conduct the meeting to facilitate the orderly conduct of business.

Minutes: The minutes of the meeting will be available for public review and copying at the following Web site: http://biomassboard.gov/committee/meetings.html.

Issued at Washington, DC on February 3, 2012.
LaTanya R. Butler,
Acting Deputy Committee Management Officer.

[FR Doc. 2012-2972 Filed 2-8-12; 8:45 am]

BILLING CODE 6450-01-P